DEPARTMENT OF AGRICULTURE

Food and Nutrition Service

Agency Information Collection Activities: Proposed Collection; Comment Request—Reasons for Underredemption of the WIC Cash-Value Benefit

AGENCY: Food and Nutrition Service, U.S. Department of Agriculture.

ACTION: Notice.

SUMMARY: In accordance with the Paperwork Reduction Act of 1995, this notice invites the general public and other public agencies to comment on this proposed information collection for Reasons for Underredemption of the WIC Cash-Value Benefit. This collection is a NEW information collection.

This study informs the U.S. Department of Agriculture's Food and Nutrition Service (FNS) about the reasons behind underredemption of the cash-value benefit (CVB) issued to participants in the Special Supplemental Nutrition Program for Women, Infants, and Children (WIC). FNS is particularly interested in how CVB redemption rates are affected by State agency policies and practices.

DATES: Written comments must be received on or before October 7, 2019.

ADDRESSES: Comments may be sent to Ruth Morgan, Food and Nutrition Service, U.S. Department of Agriculture, 3101 Park Center Drive, Room 1014, Alexandria, VA 22302. Comments may also be submitted via fax to the attention of Ruth Morgan at 703-305-2576 or via email at ruth.morgan@usda.gov. Comments will also be accepted through the Federal eRulemaking Portal. Follow the online instructions at http://www.regulations.gov for submitting comments electronically.

All responses to this notice will be summarized and included in the request for Office of Management and Budget approval. All comments will be a matter of public record.

FOR FURTHER INFORMATION CONTACT: Requests for additional information or copies of this information collection should be directed to Ruth Morgan at 703-457-7759.

SUPPLEMENTARY INFORMATION: Comments are invited on (a) whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including the use of appropriate automated, electronic, mechanical, or other technological collection techniques or other forms of information technology.

Title: Reasons for Underredemption of the WIC Cash-Value Benefit.

Form Number: N/A.

OMB Number: Not Yet Assigned.

Expiration Date: Not Yet Determined.

Type of Request: New Collection.

Abstract: The Special Supplemental Nutrition Program for Women, Infants, and Children (WIC) provides nutritious supplemental foods, healthcare referrals, breastfeeding support, and nutrition education to low-income pregnant, breastfeeding, and postpartum women, infants and children up to age 5 who are at nutritional risk. A Final Rule was published in the Federal Register on March 4, 2014 (79 FR 12273) that revised the WIC food packages to add a monthly cash-value benefit (CVB) for the purchase of fruits and vegetables. This rule also detailed specific provisions for the value of the CVB, the types of fruits and vegetables authorized, and other State options for providing this benefit. Recent studies have estimated that redemption rates for CVBs range from 73 percent to 77 percent; 1 2 however, the reasons for underredemption of this benefit have not been fully explored. FNS has funded this study to determine the barriers to CVB redemption and the effects of State agency policies, practices, and other factors on CVB redemption rates.

¹ Phillips, D., Bell, L., Morgan, R., & Pooler, J. (2014). Transition to EBT in WIC: Review of impact and examination of participant redemption patterns: Final report. Retrieved from https://altarum.org/sites/default/files/uploaded-publication-files/Altarum_Transition%20to%20WIC%20EBT_Final%20Report_071614.pdf.

² National Academies of Sciences, Engineering, and Medicine. (2017). Review of WIC food packages: Improving balance and choice: Final report. Washington, DC: The National Academies Press. DOI: https://doi.org/10.17226/23655.

There are a variety of WIC State agency policies and practices that may contribute to CVB underredemption, including but not limited to: vendor authorization and selection policies, the forms of fruits and vegetables allowed, vendor minimum stocking requirements, and participant tools and training available. Other State and household factors may also affect redemption rates, such as geographic access to WIC vendors or household preferences for certain types of fruits and vegetables.

In order to identify the factors associated with CVB redemption and examine the effects of State agency policies and practices on CVB redemption rates, FNS is conducting a study in 12 States, with more in-depth data collection occurring in 4 of these States. The study will gather data from WIC State plans and policy documents, administrative records, and WIC participants. State plan and policy document data will be collected from 12 States and used to identify variations in State agency policies and practices that may affect CVB redemption rates. Administrative record collection will be limited to electronic benefit transfer (EBT) data previously collected from 12 State agencies for the WIC Food Cost Containment Practices study (OMB Number 0584-0627, Expiration Date 09/30/2020). EBT data will be used to calculate rates in each of the 12 study State agencies and, in conjunction with the policy data, will be used to assess the ways in which redemption rates vary with differences in policies and practices. Participant and State agency staff interviews in 4 of the 12 States will be used to understand the factors that are most salient to participants in making decisions about purchasing fruits and vegetables with their CVB and barriers to redemption. FNS will select two States with low CVB redemption rates, one State with an intermediate redemption rate, and one State with a high redemption rate for participant and State agency staff interviews.

Affected Public: (1) State, local, and tribal governments; (2) nonprofits; and (3) individuals. Identified respondent groups include the following:

1. State, local, and tribal governments: State agency staff in four States, local agency staff at six local agencies, and clinic staff at six clinics.

2. Nonprofits: Staff at two local agencies and two WIC clinics.³

³ Local agencies and clinics may be either government or nonprofit organizations. It is assumed that no contacted local agencies or clinics will refuse to participate.

3. Individuals: WIC participants in four study States.

Estimated Number of Respondents: The total estimated number of respondents is 317 (20 State and local government staff, 4 nonprofit staff, and 293 individuals). Of the 317 respondents to be contacted, 257 are expected to be responsive, and 60 are expected to be nonresponsive. The breakout follows:

1. 20 State and local government staff: Of 8 State agency staff to be contacted across 4 States, 8 are expected to be responsive; of 6 local agency staff contacted across 6 local agencies, 6 are expected to be responsive; of 6 clinic staff contacted across 6 clinics, 6 are expected to be responsive.

2. 4 nonprofit staff: Of 2 local agency staff contacted across 2 local agencies, 2 are expected to be responsive; of 2 clinic staff to be contacted across 2 clinics, 2 are expected to be responsive.

3. 293 individuals: 9 individuals are expected to participate in a pretest. Of 284 individuals to be contacted for the main study, 144 are expected to be responsive.

Estimated Number of Responses per Respondent: 4.5, based on the estimated 1,417 total annual responses (1,277 responsive and 140 nonresponsive) to be made by the 317 respondents. See table 1 for the estimated number of responses per respondent for each type of respondent. The breakout follows:

1. WIC State agency staff: The estimated number of responses per State agency staff is three. Four State agency staff will receive and respond to advance materials and scheduling; the same four State agency staff will take part in a recruitment call. Up to eight State agency staff will participate in a semistructured interview.

2. WIC local agency staff (including state, local, and tribal governments and non-profits): The estimated number of responses per local agency staff is four. Eight local agency staff will receive and respond to advance materials and scheduling; the same eight local agency staff will take part in a recruitment call.

3. WIC clinic staff (including state, local, and tribal governments and non-profits): The estimated number of responses per local clinic staff is four. Eight clinic staff will receive and respond to advance materials and scheduling; the same 8 clinic staff will take part in a recruitment call.

4. Individuals (WIC participants): The estimated number of responses per individual is 5.10. In total, nine individuals will participate in a pretest. 284 individuals will receive a study brochure. Of the 164 who are eligible to participate, 112 will fill out the signup sheet for in-person interviews, and 52 will fill out the signup sheet for phone interviews. Of the 164 who fill out signup sheets, 20 will not respond.

Estimated Total Annual Responses: 1,417 (1,277 annual responses for responsive participants and 140 annual responses for nonresponsive participants).

Estimated Time per Response: The estimated average response time is 0.12 hours for all respondents (0.12 hours for responsive participants and 0.05 hours for nonresponsive participants). The estimated time of response varies from 30 seconds (0.0083 hours) to 1 hour depending on respondent group and activity, as shown in table 1.

Estimated Total Annual Burden on Respondents: 163.38 hours (156.38 hours for responsive participants, and 7.0 hours for nonresponsive participants). See table 1 for estimated total annual burden for each type of respondent.

BILLING CODE 3410-30-P

Dated: July 26, 2019.
Brandon Lipps,
Administrator, Food and Nutrition Service.

[FR Doc. 2019-17016 Filed 8-7-19; 8:45 am]

BILLING CODE 3410-30-C